DEPARTMENT OF COMMERCE

International Trade Administration

[Application No. 92-8A00l]

Export Trade Certificate of Review

ACTION: Notice of Issuance (#92-8A001) of an Amended Export Trade Certificate of Review to Aerospace Industries Association of America, Inc.

SUMMARY: On October 5, 2009, the Export Trading Company Affairs Office, International Trade Administration, U.S. Department of Commerce, issued an amended Export Trade Certificate of Review (“Certificate”) to Aerospace Industries Association of America, Inc. (“AIA”).

FOR FURTHER INFORMATION CONTACT: Jeffrey Anspacher, Acting Director, Office of Competition and Economic Analysis, International Trade Administration, (202) 482-5131 (this is not a toll-free number) or by E-mail at oetca@ita.doc.gov.

SUPPLEMENTARY INFORMATION: Title III of the Export Trading Company Act of 1982 (15 U.S.C. 4001-21) authorizes the Secretary of Commerce to issue Export Trade Certificates of Review. The regulations implementing Title III are found at 15 CFR Part 325 (2006). Export Trading Company Affairs (“ETCA”) is issuing this notice pursuant to 15 CFR 325.6(b), which requires the Secretary of Commerce to publish a summary of the certification in the Federal Register. Under Section 305(a) of the Act (15 U.S.C. Sections 4001-21) and 15 CFR 325.11(a), any person aggrieved by the Secretary's determination may, within 30 days of the date of this notice, bring an action in any appropriate district court of the United States to set aside the determination on the ground that the determination is erroneous.

Description of Amended Certificate

The original Certificate for Aerospace Industries Association of America, Inc. was issued on April 10, 1992 (57 FR 13707, April 17, 1992) and last amended on November 12, 2003 (68 FR 66074, November 25, 2003).

AIA's Export Trade Certificate of Review has been amended to:

1. Delete the following companies as Members of the Certificate: AAI Corporation, Hunt Valley, MD; Alliant Techsystems Incorporated, Hopkins, MN; Areté Associates, Arlington, VA; Argo-Tech Corporation, Cleveland, OH; AstroVision International, Inc., Bethesda, MD; Atlantic Research Corporation, Gainesville, VA; Aviall, Inc., Dallas, TX; B.H. Aircraft Company, Inc., Ronkonkoma, NY; Ball Aerospace & Technologies Corporation, Boulder, CO; Celestica Corporation, Toronto, Ontario; Crane Aerospace & Electronics, Lynwood, WA; Cubic Corporation, San Diego, CA; Dy 4 Systems Limited, Kanata, Ontario; EDO Corporation, New York, NY; Federation, Inc., Centennial, CO; GKN Aerospace Services, Farnham, Surrey, UK; JEDCO, Inc., Grand Rapids, MI; Kistler Aerospace Corporation, Kirkland, WA; 3M Company, St. Paul, MN; Martin-Baker America, Incorporated, Arlington, VA; MatrixOne Inc., Westford, MA; MD Helicopters, Inc., Mesa, AZ; Orbital Sciences Corporation, Dulles, VA; PerkinElmer, Inc., Wellesley, MA; The Purdy Corporation, Manchester, CT; Silicon Graphics, Inc., Mountain View, CA; Smiths Aerospace Actuation Systems, Duarte, CA; Spectrum Astro Inc., Gilbert, AZ; Stellex Aerostructures, Inc., Lebanon, NJ; Swales Aerospace, LLC, Beltsville, MD; Teleflex Inc., Plymouth Meeting, PA; Titan Corporation, San Diego, CA; Triumph Group Inc., Wayne, PA; and United Defense, L.P., Arlington, VA.

2. Add the following companies as new Members of the Certificate within the meaning of section 325.2(1) of the Regulations (15 CFR 325.(1)): AAR Corp., Wood Dale, IL; Accenture, Hartford, CT (controlling entity: Accenture, Ltd., Hamilton Bermuda); Airlaunch LLC, Kirkland, WA; Allfast Fastening Systems, City of Industry, CA; AMSAFE Aviation, Phoenix, AZ; AMT II Corporation, New York, NY; Aurora Flight Sciences Corporation, Manassas, VA; AUSCO, Inc., Port Washington, NY; B/E Aerospace, Inc., Wellington, FL; Belcan Corporation, Cincinnati, OH; Best Foam Fabricators, Inc., Chicago, IL; BreconRidge Corporation, Ottawa, Ontario; CAE USA Inc., Tampa, FL (controlling entity: CAE Inc., Montreal, Canada); Chromalloy Power Services Corporation, San Antonio, TX (controlling entity: Carlyle Group, Washington, DC); Click Bond, Inc., Carson City, NV (controlling entity: Physical Systems, Inc., Carson City, NV); Click Commerce, Inc., Chicago, IL; Cobham, Arlington, VA (controlling entity: Cobham, plc, Winborne, Dorset, United Kingdom); DynCorp International LLC, Falls Church, VA; Eaton Aerospace Operations, Irvine, CA (controlling entity: Eaton Corporation, Cleveland, OH); Eclipse Aviation Corporation, Albuquerque, NM; Electronic Data Systems Corporation, Plano, TX (controlling entity: Hewlett Packard, Palo Alto, CA); Erickson Air-Crane Inc., Portland, OR; ESI North America, Bloomfield Hills, MI (controlling entity: ESI Group, Pais, France); Flextronics International USA, Inc., San Jose, CA (controlling entity: Flextronics International, Ltd., Singapore); Flight Safety International, Inc., Flushing, NY (controlling entity: Berkshire Hathaway Inc., Omaha, NE); FTG Circuits, Inc., Chatsworth, CA (controlling entity: FTG Group Corporation, Toronto, Canada); Groen Brothers Aviation, Inc., Salt Lake City, UT; IBM Corporation, Armonk, NY; LAI International, Inc., Scottsdale, AZ (controlling entity: Spell Capital Partners, LLC, Minneapolis, MN); LMI Aerospace, Inc., St. Charles, MO; Lord Corporation, Cary, NC; Marotta Controls, Inc., Montville, NJ; McKechnie Aerospace, Irvine, CA; MicroCoax, Inc., Pottstown, PA; Micro-Tronics, Inc., Tempe, AZ; MicroSat Systems, Inc., Littleton, CO (controlling entity: Sierra Nevada Corporation, Sparks, NV); Natel Engineering Company, Inc., Chatsworth, CA; National Machine Group, Stow, OH; National Technical Systems, Inc., Calabasas, CA; Naverus, Inc., Kent, WA; The NORDAM Group, Inc., Tulsa, OK; NYLOK Corporation, Macomb, MI (controlling entity: Berkshire Hathaway, Inc., Omaha, NE); Oracle USA, Inc., Redwood Shores, CA (controlling entity: Oracle Corporation, Redwood Shores, CA); Pall Aeropower Corporation, New Port Richey, FL (controlling entity: Pall Corporation, East Hills, NY); Pinkerton Government Services, Inc., Springfield, VA (controlling entity: Securitas Security Services, USA, Parsippany, NJ); PPG Aerospace, Sylmar, CA (controlling entity: PPG Industries, Pittsburgh, PA); Science Applications International Corporation, San Diego, CA; Siemens PLM Software, Plano, TX (controlling entity: Siemens AG, Munich, Germany); SITA, Atlanta, GA (controlling entity: SITA, Geneva, Switzerland); SM&A, Newport Beach, CA; Southern California Braiding Company, Inc., Bell Gardens, CA; Space Exploration Technologies Corporation, Hawthorne, CA; Sparton Corporation, Jackson, MI; Spirit AeroSystems, Inc., Wichita, KS; TechniGraphics, Inc., Wooster, OH; Timken Aerospace Transmissions, LLC—Purdy Systems, Manchester, CT (controlling entity: The Timken Company, Canton, OH); Vibro-Meter, Inc., Manchester, NH (controlling entity: Meggitt PLC, Christchurch, Dorset, United Kingdom); and WIPRO Technologies, Beaverton, OR (controlling entity: WIPRO Technologies, Bangalore, India).

3. Change the listing of the following Members: “Analytical Graphics, Inc., Malvern, PA” to the new listing “Analytical Graphics, Inc., Exton, PA”; “BAE Systems North America, Inc., Rockville, MD” to the new listing “BAE Systems, Inc., Rockville, MD”; “B&E Tool Company, Inc., Southwick, MA” to the new listing “B&E Group, LLC, Southwick, MA”; “Curtiss-Wright Corporation, Lyndhurst, NJ” to “Curtiss-Wright Corporation, Parsippany, NJ”; “E. I. duPont de Nemours & Company, Wilmington, DE” to “Dupont Company, New Castle, DE”; “General Atomics Aeronautical Systems, Inc., San Diego, CA” to “General Atomics Aeronautical Systems, Inc., Poway, CA”; “HEICO, Miami, FL” to “HEICO Corporation, Hollywood, FL”; “ITT Industries, Inc., McLean, VA” to “ITT Corporation, White Plains, NY”; “L-3 Communications Holdings, Inc., New York, NY” to “L-3 Communications Corporation, New York, NY”; “Raytheon Corporation, Lexington, MA” to “Raytheon Company, Waltham, MA”; and “Woodward Governor Company, Rockford, IL” to “Woodward Governor Company, Fort Collins, CO”.

Dated: October 5, 2009.
Jeffrey C. Anspacher,
Acting Director, Office of Competition and Economic Analysis.

[FR Doc. E9-25636 Filed 10-23-09; 8:45 am]

BILLING CODE 3510-DR-P